NATIONAL SCIENCE FOUNDATION

Proposal Review Panel for International Science and Engineering; Notice of Meeting

In accordance with the Federal Advisory Committee Act (Pub. L. 92-463, as amended), the National Science Foundation (NSF) announces the following meeting:

Name and Committee Code: Proposal Review Panel for Office of International Science and Engineering—PIRE Investigation of Multi-scale, Multi-phase Phenomena in Complex Fluids for the Energy Industries (10749).

Date and Time: September 19, 2019, 7:00 a.m.-9:30 p.m., September 20, 2019, 7:00 a.m.-4:30 p.m.

Place: CUNY City College of New York, New York, NY 10031.

Type of Meeting: Part-open.

Contact Person: Maija M. Kukla, PIRE Program Director, National Science Foundation, 2415 Eisenhower Avenue, Alexandria, VA 22314; Telephone 703-292-4940.

Purpose of Meeting: NSF site visit to conduct a review during year 3 of the five-year award period. To conduct an in-depth evaluation of performance, to assess progress towards goals, and to provide recommendations.

Agenda: See attached.

Reason for Closing: Topics to be discussed and evaluated during closed portions of the site review will include information of a proprietary or confidential nature, including technical information; and information on personnel. These matters are exempt under 5 U.S.C. 552b(c), (4) and (6) of the Government in the Sunshine Act.

Dated: August 13, 2019.
Crystal Robinson,
Committee Management Officer.

PIRE Site Visit Agenda

Day 1

7:00 a.m.-8:00 a.m.:

Travel to Site Review Location, Breakfast

8:00 a.m.-12 noon:

Introductions

PIRE Rationale and Research Goals

Research Accomplishments

Administration, Management, and Budget Plans

Review of Responses to Issues by Past Reviewers

10:00 a.m.-10:20 a.m.:

NSF Executive Session/Break (CLOSED)

Research

Facilities and Physical Infrastructure

12 noon-12:30 p.m.:

NSF Executive Session (CLOSED)

12:30 p.m.-1:30 p.m.:

Lunch—Discussion with Students (CLOSED)

1:30 p.m.-3:00 p.m.:

Integrating Research and Education

Developing Human Resources

Integrating Diversity

3:00 p.m.-3:30 p.m.:

NSF Executive Session/Break (CLOSED)

3:30 p.m.-4:15 p.m.:

Partnerships

4:15 p.m.-5:15 p.m.:

Wrap up

5:15 p.m.-6:15 p.m.:

Executive Session/Break (CLOSED)

6:15 p.m.:

Critical Feedback Provided to PI

8:00 p.m.-9:30 p.m.:

NSF Executive Session/Working Dinner (CLOSED)

Day 2

7:00 a.m.-8:00 a.m.:

Travel to Site Visit Location, Breakfast

8:00 a.m.-9:00 a.m.:

Meeting with Administrators and Investigator Only (Topic: Institutional Support) (CLOSED)

9:00 a.m.-10:00 a.m.:

Summary/Proposing Team to Critical Feedback

10:00 a.m.-4:00 p.m.:

Site Review Tea.m. Prepares Site Visit Report (Working Lunch Provided) (CLOSED)

4:15 p.m.-4:30 p.m.:

Presentation of Site Visit Report to Principal Investigator

[FR Doc. 2019-17655 Filed 8-15-19; 8:45 am]

BILLING CODE 7555-01-P